DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on December 1, 2014, through December 31, 2014. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “Sustained, or had significantly aggravated, any illness, disability, injury, or condition not set forth in the Vaccine Injury Table but which was caused by” one of the vaccines referred to in the Table, or

b. “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: January 28, 2015.
Mary K. Wakefield,
Administrator.

List of Petitions Filed

1. Ian Marley, Greenville, South Carolina, Court of Federal Claims No: 14-1159V.

2. Misty Fankell, Dayton, Ohio, Court of Federal Claims No: 14-1160V.

3. Rene Bridges, Burgaw, North Carolina, Court of Federal Claims No: 14-1167V.

4. Sharena Webb on behalf of D.W., Jr., Jacksonville, Florida, Court of Federal Claims No: 14-1169V.

5. Ronald Gordon, Fenton, Michigan, Court of Federal Claims No: 14-1171V.

6. Cindy Scheiter, Columbia, Missouri, Court of Federal Claims No: 14-1172V.

7. Charles Turner, Midland, Michigan, Court of Federal Claims No: 14-1177V.

8. Nicole C'DeBaca, Brighton, Colorado, Court of Federal Claims No: 14-1181V.

9. Karen Stroup on behalf of R.B., Cranberry Township, Pennsylvania, Court of Federal Claims No: 14-1182V.

10. Lisa Crider, Mishawaka, Indiana, Court of Federal Claims No: 14-1183V.

11. Ermerita Morales on behalf of M.S.M.,Vienna, Virginia, Court of Federal Claims No: 14-1186V.

12. Robert Madigan, Mount Kisco, New York, Court of Federal Claims No: 14-1187V.

13. Brian Dukes, Shelby, North Carolina, Court of Federal Claims No: 14-1188V.

14. Anthony Lawson, Jefferson City, Tennessee, Court of Federal Claims No: 14-1191V.

15. Charles K. Rice, Virginia Beach, Virginia, Court of Federal Claims No: 14-1192V.

16. Gregory Romans, Richmond, Virginia, Court of Federal Claims No: 14-1193V.

17. Brandy Leathers, Detroit, Michigan, Court of Federal Claims No: 14-1194V.

18. Shannon Powers and William Powers on behalf of L.P., Columbus, Ohio, Court of Federal Claims No: 14-1195V.

19. Jorge Gutierrez on behalf of A.G., Tulsa, Oklahoma, Court of Federal Claims No: 14-1201V.

20. Jeanne Bailey, Chicago, Illinois, Court of Federal Claims No: 14-1206V.

21. Michael Lerg, Chapel Hill, North Carolina, Court of Federal Claims No: 14-1208V.

22. Heather C. Williams, Waukesha, Wisconsin, Court of Federal Claims No: 14-1209V.

23. Katy Jeluso, Las Vegas, Nevada, Court of Federal Claims No: 14-1210V.

24. Alicia Skinner-Smith, New Orleans, Louisiana, Court of Federal Claims No: 14-1212V.

25. Kelly A. Loebig, Pittsburgh, Pennsylvania, Court of Federal Claims No: 14-1215V.

26. Dean Stanford, Freemont, California, Court of Federal Claims No: 14-1216V.

27. Elizabeth Jackson, New York, New York, Court of Federal Claims No: 14-1217V.

28. Julie Mounts on behalf of M.M., Lewiston, Maine, Court of Federal Claims No: 14-1219V.

29. Brandy Rojas, Kalispell, Montana, Court of Federal Claims No: 14-1220V.

30. Lolita Newland, Memphis, Tennessee, Court of Federal Claims No: 14-1221V.

31. Michael Opperman, Shawano, Wisconsin, Court of Federal Claims No: 14-1222V.

32. Gregory A. Razka, Bolingbrook, Illinois, Court of Federal Claims No: 14-1224V.

33. Glenn S. Douglas, Alexandria, Virginia, Court of Federal Claims No: 14-1226V.

34. Keith Varela on behalf of M.V., Santa Fe, New Mexico, Court of Federal Claims No: 14-1227V.

35. Thomas Thompson, Mesa, Arizona, Court of Federal Claims No: 14-1229V.

36. Alexis DePalmo, San Diego, California, Court of Federal Claims No: 14-1230V.

37. Patricia M. Abel, Milwaukee, Wisconsin, Court of Federal Claims No: 14-1232V.

38. Michael Reid and Jamie Reid on behalf of M.R., Aurora, Illinois, Court of Federal Claims No: 14-1233V.

39. Vincent J. Christiancy, Shoreline, Washington, Court of Federal Claims No: 14-1235V.

40. Arlen E. Twerdok, Erie, Pennsylvania, Court of Federal Claims No: 14-1237V.

41. Raul DeJesus, Bethlehem, Pennsylvania, Court of Federal Claims No: 14-1238V.

42. Alfred McDaniel, Tempe, Arizona, Court of Federal Claims No: 14-1240V.

43. Randall Carlson, Boston, Massachusetts, Court of Federal Claims No: 14-1244V.

44. Mary Picanco, Boston, Massachusetts, Court of Federal Claims No: 14-1245V.

[FR Doc. 2015-02120 Filed 2-3-15; 8:45 am]

BILLING CODE 4165-15-P